DEPARTMENT OF THE INTERIOR

Office of Surface Mining Reclamation and Enforcement

Notice of Proposed Information Collection for 1029-0047 and 1029-0080

AGENCY: Office of Surface Mining Reclamation and Enforcement.

ACTION: Notice and request for comments.

SUMMARY: In compliance with the Paperwork Reduction Act of 1995, the Office of Surface Mining Reclamation and Enforcement (OSM) is announcing its intention to request renewed authority for two collections of information: 30 CFR parts 816 and 817 relating to the permanent program performance standards—surface mining activities and underground mining activities, and 30 CFR part 850 authorizing State regulatory authorities to develop blaster certification programs. These information collection activities were previously approved by the Office of Management and Budget (OMB), and assigned clearance numbers 1029-0047 and 1029-0080, respectively.

DATES: Comments on the proposed information collection must be received by December 29, 2006, to be assured of consideration.

ADDRESSES: Comments may be mailed to John A. Trelease, Office of Surface Mining Reclamation and Enforcement, 1951 Constitution Ave, NW., Room 202—SIB, Washington, DC 20240. Comments may also be submitted electronically to jtrelease@osmre.gov.

FOR FURTHER INFORMATION CONTACT: To request a copy of the information collection requests, explanatory information and related forms, contact John A. Trelease, at (202) 208-2783.

SUPPLEMENTARY INFORMATION: The Office of Management and Budget (OMB) regulations at 5 CFR part 1320, which implement provisions of the Paperwork Reduction Act of 1995 (Pub. L. 104-13), require that interested members of the public and affected agencies have an opportunity to comment on information collection and recordkeeping activities [see 5 CFR 1320.8(d)]. This notice identifies information collections that OSM will be submitting to OMB for approval. These collections are contained in 30 CFR parts 816 and 817—Permanent Program Performance Standards—Surface and Underground Mining Activities, and 30 CFR part 850, Permanent Regulatory Program Requirements—Standards for Certification of Blasters. OSM will request a 3-year term of approval for each information collection activity.

Comments are invited on: (1) The need for the collection of information for the performance of the functions of the agency; (2) the accuracy of the agency's burden estimates; (3) ways to enhance the quality, utility and clarity of the information collection; and (4) ways to minimize the information collection burden on respondents, such as use of automated means of collection of the information. A summary of the public comments will accompany OSM's submission of the information collection request to OMB.

The following information is provided for each information collection: (1) Title of the information collection; (2) OMB control number; (3) summary of the information collection activity; and (4) frequency of collection, description of the respondents, estimated total annual responses, and the total annual reporting and recordkeeping burden for the collection of information.

Title: Permanent Program Performance Standards—Surface and Underground Mining Activities, 30 CFR Parts 816 and 817.

OMB Control Number: 1029-0047.

Summary: Section 515 and 516 of the Surface Mining Control and Reclamation Act of 1977 provides that permittees conducting coal mining operations shall meet all applicable performance standards of the Act. The information collected is used by the regulatory authority in monitoring and inspecting surface coal mining activities to ensure that they are conducted in compliance with the requirements of the Act.

Bureau Form Number: None.

Frequency of Collection: Once, on occasion, quarterly and annually.

Description of Respondents: Coal mining operators and State regulatory authorities.

Total Annual Responses: 326,027.

Total Annual Burden Hours: 1,432,142.

Total Annual Burden Cost: $323,096.

Title: Permanent Regulatory Program Requirements—Standards for Certification of Blasters, 30 CFR Part 850.

OMB Control Number: 1029-0080.

Summary: This part establishes the requirements and procedures applicable to the development of regulatory programs for the training, examination, and certification of persons engaging in or directly responsible for the use of explosives in surface coal mining operations.

Bureau Form Number: None.

Frequency of Collection: Once.

Description of Respondents: State regulatory authorities.

Total Annual Responses: 1.

Total Annual Burden Hours: 173.

Dated: October 23, 2006.
John R. Craynon,
Chief, Division of Regulatory Support.

[FR Doc. 06-8955 Filed 10-27-06; 8:45 am]

BILLING CODE 4310-05-M